ENVIRONMENTAL PROTECTION AGENCY

[FRL-6571-8]

Proposed Administrative Agreement Pursuant to the Comprehensive Environmental Response Compensation, and Liability Act and the Resource Conservation and Recovery Act; Solvent Recovery Corporation, Kansas City, Kansas, Docket Nos. CERCLA-7-2000-0014 and RCRA-7-2000-0027

AGENCY: Environmental Protection Agency.

ACTION: Notice; request for public comment.

SUMMARY: In accordance with Section 122(i) of the Comprehensive Environmental Response, Compensation, and Liability Act, as amended (“CERCLA”), 42 U.S.C. 9622(i), and Section 7003(d) of the Resource Conservation and Recovery Act (“RCRA”), notification is hereby given of a proposed administrative agreement concerning the Solvent Recovery Corporation (“Respondent”) at 100 South 1st Street, Kansas City, Kansas (“Site”). Under the agreement, the Respondent agrees to perform response actions in connection with the release and threatened release of hazardous substances at the Site. Respondent will remove and properly dispose of several thousand containers of waste, contaminated soil, and a 20,000 gallon tank of material. The Respondent agrees to pay oversight costs incurred by the U.S. EPA pursuant to an Administrative Order on Consent (“Order”) dated March 16, 2000. The settlement includes a covenant not to sue the settling party pursuant to Section 106 and 107(a) of CERCLA, 42 U.S.C. 9606 and 9607(a) for past response costs incurred by EPA in connection with the Site, which total approximately $60,000. This covenant not to sue shall take effect when all actions required by the Order have been completed and EPA has notified the Respondent, in writing, that the actions required by the Order have been completed.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Kansas City, Kansas, Public Library, 625 Minnesota, Kansas City, Kansas 66101, and Office of Regional Hearing Clerk, EPA, 901 North 5th Street, Kansas City, KS 66101. Commenters may request an opportunity for a public meeting in the affected area in accordance with Section 7003(d) of RCRA, 42 U.S.C. 6973(d).

DATES: Comments must be submitted on or before May 8, 2000.

ADDRESSES: The proposed settlement is available for public inspection at Office of Regional Hearing Clerk, Environmental Protection Agency, 901 N. 5th Street, Kansas City, KS 66101. A copy of the proposed settlement may be obtained from Kathy Robinson, Regional Hearing Clerk, EPA, 901 N. 5th Street, Kansas City, KS 66101, telephone 913-551-7567. Comments should reference the Solvent Recovery Corporation, Kansas City, Kansas, Docket No. CERCLA 7-2000-0014 and Docket No. RCRA7-2000-0027 and should be addressed to Regional Hearing Clerk, EPA, 901 N. 5th Street, Kansas City, KS 66101.

FOR FURTHER INFORMATION CONTACT: Kristina Gonzales, Assistant Regional Counsel, EPA, 901 N. 5th Street, Kansas City, KS 66101, telephone: 913-551-7245.

Dated: March 21, 2000.
Gale Hutton,
Acting Regional Administrator, Region VII.

[FR Doc. 00-8535 Filed 4-6-00; 8:45 am]

BILLING CODE 6560-50-P